DEPARTMENT OF TRANSPORTATION

National Highway Traffic Safety Administration

[Docket No. NHTSA-2001-10854]

Michelin North America, Inc., Receipt of Application for Decision of Inconsequential Noncompliance

Michelin North America, Inc., (Michelin) has determined that approximately 1,400 11R24.5 Michelin XDY-EX LRH tires are not in full compliance with 49 CFR 571.119, Federal Motor Vehicle Safety Standard (FMVSS) No. 119, “New pneumatic tires for vehicles other than passenger cars, “ and has filed an appropriate report pursuant to 49 CFR part 573, “Defect and Noncompliance Reports.” Michelin has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

According to the application, “During the period of the 29th week of 2001 through the 36th week of 2001, the Spartanburg, South Carolina plant of Michelin North America produced a number of tires with a portion of the DOT tire identification number marking (as required on one side of the tire by 49 CFR 571.119 S6.5b) which did not meet the usual specifications as described by 49 CFR 574.5.”

Instead of a required marking that reads: “DOT B6 4F BVR X NN01”, the tires were marked: “DOT B6 4F NN01 X BVR” where NN is the week of fabrication and 01 is the year. All other performance requirements of FMVSS No. 119 are met or exceeded. Up to 1200 noncompliant tires have been delivered to end-users. The remaining noncompliant tires have been isolated in Michelin's warehouses and will be either brought into full compliance with the marking requirements of FMVSS No. 119 or scrapped.

Michelin supports its application for inconsequential noncompliance by stating that they do not believe the marking error will impact motor vehicle safety because the tires meet all Federal motor vehicle safety performance standards and the non-compliance is one of labeling.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: November 28, 2001.

(49 U.S.C. 30118, 30120; delegations of authority at 49 CFR 1.50 and 501.8)
Issued on October 23, 2001.
Stephen R. Kratzke,
Associate Administrator for Safety Performance Standards.

[FR Doc. 01-27135 Filed 10-26-01; 8:45 am]

BILLING CODE 4910-59-P